DEPARTMENT OF THE INTERIOR

Bureau of Land Management

[LLORW00000 L102000000.ML0000 13XL1109AF.HAG13-0121]

Notice of Public Meeting, Eastern Washington Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council (EWRAC) will meet as indicated below.

DATES: March 21, 2013.

SUPPLEMENTARY INFORMATION: The meeting will be open to the public. It will begin at 10 a.m. and end at 2 p.m. on March 21. Members of the public will have an opportunity to address the EWRAC at 10 a.m. The meeting will be held in the City Council Chambers of the City of Moses Lake, 401 S. Balsam, Moses Lake, Washington 98837. Discussion will focus on introduction and orientation for new members, the Eastern Washington and San Juan Resource Management Plan, the U.S. Forest Service Colville Forest Plan Revision, and future Resource Advisory Council business.

Before including your address, phone number, email address, or other personal identifying information in your comments, please be aware that your entire comment—including your personal identifying information—may be made publicly available at any time. While you can ask us in your comment to withhold your personal identifying information from public review, we cannot guarantee that we will be able to do so.

FOR FURTHER INFORMATION CONTACT: BLM Spokane District, 1103 N. Fancher Rd., Spokane Valley, Washington 99212, or call (509) 536-1200. Persons who use a telecommunications device for the deaf (TDD) may call the Federal Information Relay Service (FIRS) at 1 (800) 877-8339 to contact the above individual during normal business hours. The FIRS is available 24 hours a day, 7 days a week, to leave a message or question with the above individual. You will receive a reply during normal business hours.

Daniel C. Picard,
Spokane District Manager.

[FR Doc. 2013-04635 Filed 2-27-13; 8:45 am]

BILLING CODE 4310-33-P